DEPARTMENT OF AGRICULTURE

Office of the Chief Financial Officer; Notice of Request for Extension and Revision of a Currently Approved Collection

AGENCY: Office of the Chief Financial Officer, USDA.

ACTION: Notice and request for comments.

SUMMARY: In accordance with the Paperwork Reduction Act of 1995 (44 U.S.C. Chapter 35), this notice announces the Office of the Chief Financial Officer intention to request an extension and revision of a currently approved collection.

DATES: Comments on this notice must be received by May 23, 2016 to be assured of consideration.

ADDRESSES: Office of the Chief Financial Officer invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to U.S. Department of Agriculture, Office of the Chief Financial Officer, Fiscal Policy Division, Room 3417, 1400 Independence Avenue SW., Washington, DC 20250.

• Hand- or courier-delivered submittals: Deliver to Aaron Prose, U.S. Department of Agriculture, Office of the Chief Financial Officer, Fiscal Policy Division, Room 3417, 1400 Independence Avenue SW., Washington, DC 20250.

Instructions: All items submitted by mail or electronic mail must include the Agency name, Office of the Chief Financial Officer. Comments received in response to this docket will be made available for public inspection and posted without change, including any personal information, to http://www.regulations.gov.

Docket: For access to background documents or comments received, go to the Office of the Chief Financial Officer, Room 3417, 1400 Independence Avenue SW., Washington, DC 20250-3700 between 8:00 a.m. and 4:30 p.m., Monday through Friday.

FOR FURTHER INFORMATION CONTACT: Aaron Prose, U.S. Department of Agriculture, Office of the Chief Financial Officer, Fiscal Policy Division, Room 3417, 1400 Independence Avenue SW., Washington, DC 20250.

SUPPLEMENTARY INFORMATION: In accordance with the Paperwork Reduction Act of 1995 (44 U.S.C. Chapter 35), this notice announces the intention of Office of the Chief Financial Officer to request approval for an extension and revision of a currently approved collection.

Title: Supplier Credit Audit Recovery.

OMB Number: 0505-0026.

Expiration Date of Approval: July 31, 2016.

Type of Request: Extension and revision of a currently approved information collection.

Abstract: The Department of Agriculture (USDA) believes that there are many program recipients and service providers who may be carrying a credit balance in their financial records due to possible overpayments. Three years ago, the USDA implemented a Supplier Credit Recovery Audit Program. The Supplier Credit Recovery Audit contractor sends out a letter to USDA vendors on an annual basis requesting account and payment information as to whether the vendor currently has a credit on their books due back to the USDA.

Estimate of Burden: Public reporting burden for this collection of information is estimated to average 2 hours per response.

Respondents: Vendors, contractors, program recipients, and any entity receiving funds from USDA.

Estimated Number of Respondents: 12,299.

Estimated Number of Responses per Respondent: 1.

Estimated Total Annual Burden on Respondents: 24,598 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Aaron Prose, U.S. Department of Agriculture, Office of the Chief Financial Officer, Fiscal Policy Division, Room 3417, 1400 Independence Avenue SW., Washington, DC 20250. All comments received will be available for public inspection during regular business hours at the same address.

All responses to this notice will be summarized and included in the request for the Office of Management and Budget approval. All comments will become a matter of public record.

Peggy Javery,
Director, Fiscal Policy Division.

[FR Doc. 2016-06517 Filed 3-22-16; 8:45 am]

BILLING CODE P